COMMISSION ON CIVIL RIGHTS

Notice of Public Meetings of the Indiana Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act, that the Indiana Advisory Committee (Committee) to the U.S. Commission on Civil Rights will hold a series of standing public business meetings via Zoom. The purpose of these meetings is to review, revise, and vote on sections of the Committee's report on hate crimes in Indiana, as appropriate.

DATES:

• Thursday, July 17, 2025, from 12:00 p.m.-1:30 p.m. Eastern Time.

• Thursday, August 21, 2025, from 12:00 p.m.-1:30 p.m. Eastern Time.

• Thursday, September 18, 2025, from 12:00 p.m.-1:30 p.m. Eastern Time.

• Thursday, October 16, 2025, from 12:00 p.m.-1:30 p.m. Eastern Time.

ADDRESSES: These meetings will be held via Zoom Webinar.

Registration Link (Audio/Visual): https://www.zoomgov.com/webinar/register/WN_z3HhmJH7TEW-oSNXrnBQkQ.

Join by Phone (Audio Only): (833) 435-1820 USA Toll-Free; Webinar ID: 160 310 0724.

FOR FURTHER INFORMATION CONTACT: Ana Victoria Fortes, Designated Federal Officer, at afortes@usccr.gov or (202) 681-0857.

SUPPLEMENTARY INFORMATION: These Committee meetings are available to the public through the registration link above. Any interested members of the public may attend these meetings. An open comment period will be provided to allow members of the public to make oral comments as time allows. Pursuant to the Federal Advisory Committee Act, public minutes of each meeting will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email svillanueva@usccr.gov at least 10 business days prior to each meeting.

Members of the public are entitled to submit written comments; the comments must be received in the regional office within 30 days following each scheduled meeting. Written comments may be emailed to Sarah Villanueva at svillanueva@usccr.gov. Persons who desire additional information may contact the Regional Programs Coordination Unit at (202) 681-0857.

Records generated from each meeting may be inspected and reproduced at the Regional Programs Coordination Unit Office, as they become available, both before and after the meeting. Records of each meeting will be available via the file sharing website, https://bit.ly/47mDPeL. Persons interested in the work of this Committee are directed to the Commission's website, http://www.usccr.gov, or may contact the Regional Programs Coordination Unit at svillanueva@usccr.gov.

Agenda

I. Welcome, Roll Call, and Announcements

II. Committee Discussion

III. Next Steps

IV. Public Comment

V. Adjournment

Dated: June 6, 2025.
David Mussatt,
Supervisory Chief, Regional Programs Unit.

[FR Doc. 2025-10628 Filed 6-10-25; 8:45 am]

BILLING CODE 6335-01-P